DEPARTMENT OF COMMERCE

National Oceanic and Atmospheric Administration

RIN 0648-XC348

Endangered Species; File No.17364-01

AGENCY: National Marine Fisheries Service (NMFS), National Oceanic and Atmospheric Administration (NOAA), Commerce.

ACTION: Notice; issuance of permit modification.

SUMMARY: Notice is hereby given that the U.S. Fish and Wildlife Service (USFWS), Northeast Fishery Center, PO Box 75, Lamar, PA 16848 [Michael Millard: Responsible Party], has been issued a modification to scientific research Permit No. 17364 to take captive Atlantic sturgeon.

ADDRESSES: The modification and related documents are available for review upon written request or by appointment in the Permits and Conservation Division, Office of Protected Resources, NMFS, 1315 East-West Highway, Room 13705, Silver Spring, MD 20910; phone (301) 427-8401; fax (301) 713-0376.

FOR FURTHER INFORMATION CONTACT: Malcolm Mohead or Rosa L. González, (301) 427-8401.

SUPPLEMENTARY INFORMATION: On August 13, 2014, notice was published in the Federal Register (79 FR 47440) that a modification of Permit No. 17364, issued March 14, 2013 (78 FR 17640), had been requested by the above-named organization. The requested modification has been granted under the authority of the Endangered Species Act of 1973, as amended (ESA; 16 U.S.C. 1531 et seq.) and the regulations governing the taking, importing, and exporting of endangered and threatened species (50 CFR parts 222-226).

The Permit Holder's original objectives were to refine propagation and culture techniques of captive Atlantic sturgeon held in refugia at the USFWS's Northeast Fisheries Center, providing a source of research animals for studies related to tagging, tracking, behavior, physiology, genetics, health, cryopreservation, and other methods to advance population conservation, recovery, or enhancement of the species in the wild.

The Permit Holder is now authorized to conduct similar scientific research on captive Atlantic sturgeon at five captive holding facilities of Atlantic sturgeon located in the state of Maryland. Study objectives would include nutrition, physiology, propagation, contaminants, genetics, fish health, cryopreservation, aging, tagging techniques, and refugia. Additionally, studies would examine abiotic factors (e.g., pH, temperature, salinity dissolved oxygen, etc) influencing the distribution and abundance of Atlantic sturgeon in the wild. The modification would be valid until expiration of the permit on March 13, 2018.

Issuance of this modification, as required by the ESA was based on a finding that such permit (1) was applied for in good faith, (2) will not operate to the disadvantage of such endangered or threatened species, and (3) is consistent with the purposes and policies set forth in section 2 of the ESA.

Dated: February 9, 2016.
Perry F. Gayaldo,
Deputy Director, Office of Protected Resources, National Marine Fisheries Service.

[FR Doc. 2016-03027 Filed 2-12-16; 8:45 am]

BILLING CODE 3510-22-P